DEPARTMENT OF TRANSPORTATION

Federal Aviation Administration

[Summary Notice No. 2020-66]

Petition for Exemption; Summary of Petition Received; Pyka Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before November 2, 2020.

ADDRESSES: Send comments identified by docket number FAA-2019-0948 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Issued in Washington, DC, on October 2, 2020.
Brandon Roberts,
Executive Director, Office of Rulemaking.

Petition for Exemption

Docket No.: FAA-2019-0948.

Petitioner: Pyka Inc.

Section(s) of 14 CFR Affected: §§ 61.3(a)(1)(i); 91.7(a); 91.119(c); 91.121; 91.151(b); 91.405(a); 91.407(a)(1); 91.409(a)(1) and (2); 91.417(a) and (b); 137.19(c), (d), (e)(2)(ii), (e)(2)(iii), and (e)(2)(v); 137.31; 137.33; 137.41(c); and 137.42.

Description of Relief Sought: Pyka Inc. (Pyka) seeks relief from 14 CFR 61.3(a)(1)(i); 91.7(a); 91.119(c); 91.121; 91.151(b); 91.405(a); 91.407(a)(1); 91.409(a)(1) and (2); 91.417(a) and (b); 137.19(c), (d), (e)(2)(ii), (e)(2)(iii), and (e)(2)(v); 137.31; 137.33; 137.41(c); and 137.42 and has amended their petition for exemption. By letter dated November 15, 2019, Pyka submitted a petition for exemption to request relief for operations under § 44807 of the FAA Reauthorization Act of 2018 (P.L. 115-254) to operate its proprietary Pyka P-400b fixed-wing unmanned aircraft system (UAS), with a maximum takeoff weight of 600 pounds (lbs.), for aerial agricultural spraying operations in remote rural operating environments in the United States. By letter dated July 17, 2020, Pyka submitted an amendment to their original petition to replace the P-400b UAS with the proprietary Pyka Pelican UAS. The Pelican is derived from the Pyka P-400b and has a gross weight of 1,124 lbs. The Pelican is equipped with the same fuselage and flight control software as the P-400b. It improves on the safety of the design with sealed enclosures for various subsystems, improved stability and ground handling, a Light Detection and Ranging (LIDAR) obstacle avoidance system, and improved power density for better performance. In addition, the increased payload capacity of the Pelican UAS will allow for more efficient spraying operations. For these reasons, Pyka seeks to replace the P-400b UAS with the Pelican UAS in its pending petition for exemption. The only change requested in this amendment is the aircraft to be operated. The original relief requested and the concept of operations remains the same.

[FR Doc. 2020-22512 Filed 10-9-20; 8:45 am]

BILLING CODE 4910-13-P